DEPARTMENT OF COMMERCE

Bureau of Industry and Security

15 CFR Part 744

[Docket No. 230512-0130]

RIN 0694-AJ22

Addition of Entities to the Entity List

AGENCY: Bureau of Industry and Security, Department of Commerce.

ACTION: Final rule.

SUMMARY: The Department of Commerce is amending the Export Administration Regulations (EAR) by adding seventy-one entities to the Entity List. These entities have been determined by the U.S. Government to be acting contrary to the national security or foreign policy interests of the United States and will be listed on the Entity List under the destinations of Armenia, Kyrgyzstan, and Russia.

DATES: This rule is effective May 19, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC determined to add sixty-nine entities to the Entity List under the destination of Russia for providing support to Russia's military and defense sector. This activity is contrary to U.S. national security and foreign policy interests under § 744.11(b) and these entities qualify as military end users under § 744.21 (g) of the EAR. The sixty-nine Russian entities added to the Entity List are receiving a footnote 3 designation because the ERC has determined that they are Russian or Belarusian `military end users' pursuant to § 744.21. A footnote 3 designation subjects these entities to the Russia/Belarus-Military End User Foreign Direct Product (FDP) rule, detailed in § 734.9(g). The entities are added with a license requirement for all items subject to the EAR and a license review policy of denial for all items subject to the EAR apart from food and medicine designated as EAR99, which will be reviewed on a case-by-case basis.

The ERC determined to add Medisar, LLC, under the destination of Armenia, to the Entity List pursuant to § 744.11(b) of the EAR for engaging in conduct that prevented the successful accomplishment of an end-use check. In addition, the ERC determined to add Tro.Ya, LLC, under the destination of Kyrgyzstan, to the Entity List pursuant to § 744.11(b) for both preventing the successful accomplishment of an end-use check and posing a risk of diversion of items subject to the EAR to Russia. These two entities are added with a license requirement for all items subject to the EAR and a license review policy of presumption of denial.

For the reasons described above, this final rule adds the following seventy-one entities to the Entity List and includes, where appropriate, aliases:

Armenia

• Medisar, LLC.

Kyrgyzstan

• Tro.Ya, LLC.

Russia

• Closed Joint Stock Company Special Design Bureau;

• Federal State Enterprise Kazan State Gunpowder Plant;

• Federal State Unitary Enterprise Central Scientific Research Institute of Chemistry and Mechanics;

• Federal State Unitary Enterprise Rostov-On-Don Research Institute of Radio Communications;

• Informtest Firm Limited Liability Company;

• Joint Stock Company 150 Aircraft Repair Plant;

• Joint Stock Company 810 Aircraft Repair Plant;

• Joint Stock Company Arzamas Instrument-Making Plant named after P.I. Plandin;

• Joint Stock Company Bryansk Automobile Plant;

• Joint Stock Company Central Research Institute Burevestnik;

• Joint Stock Company Central Research Institute of Automation and Hydraulics;

• Joint Stock Company Concern Avrora Scientific and Production Association;

• Joint Stock Company Concern Central Institute for Scientific Research Elektropribor;

• Joint Stock Company Concern Morinformsystem Agat;

• Joint Stock Company Concern Okeanpribor;

• Joint Stock Company Dux;

• Joint Stock Company Eastern Shipyard;

• Joint Stock Company ENICS;

• Joint Stock Company Information Satellite Systems Named After Academician M.F. Reshetnev;

• Joint Stock Company Izhevsk Electromechanical Plant Kupol;

• Joint Stock Company Kazan Optical-Mechanical Plant;

• Joint Stock Company Khabarovsk Shipbuilding Yard;

• Joint Stock Company Machine Building Company Vityaz;

• Joint Stock Company Management Company Radiostandard;

• Joint Stock Company Marine Instrument Engineering Corporation;

• Joint Stock Company Nevskoe Design Bureau;

• Joint Stock Company NII Gidrosvyazi Shtil;

• Joint Stock Company Nizhny Novgorod Plant of the 70th Anniversary of Victory;

• Joint Stock Company Northern Production Association Arktika;

• Joint Stock Company Perm Machine Building Plant;

• Joint Stock Company Precision Engineering Design Bureau named after A.E. Nudelman;

• Joint Stock Company Production Complex Akhtuba;

• Joint Stock Company Project Design Bureau RIO;

• Joint Stock Company Ratep;

• Joint Stock Company Scientific Production Association Impulse;

• Joint Stock Company Scientific Production Association Orion;

• Joint Stock Company Scientific Production Association Russian Basic Information Technologies;

• Joint Stock Company Scientific Production Association Volna Plant;

• Joint Stock Company Scientific Production Center of Automatics and Instrument Building Named After Academician N.A. Pilyugin;

• Joint Stock Company Scientific Production Concern Tekhmash;

• Joint Stock Company Scientific Research Engineering Institute;

• Joint Stock Company Scientific Research Institute of Computing Complexes Named After M.A. Kartsev;

• Joint Stock Company Scientific Technical Institute Radiosvyaz;

• Joint Stock Company Taganrog Plant Priboy;

• Joint Stock Company Tula Cartridge Works;

• Joint Stock Company Tula Machine-Building Plant;

• Joint Stock Company Ulan-Ude Aviation Plant;

• Joint Stock Company Ulyanovsk Cartridge Works;

• Joint Stock Company Ulyanovsk Mechanical Plant;

• Joint Stock Company Ural Automotive Plant;

• Joint Stock Company Ural Works of Civil Aviation;

• Joint Stock Company Vodtranspribor;

• Joint Stock Company Zavod Elecon;

• Joint Stock Company Zavolzhskiy Plant of Caterpillar Tractors;

• Joint Stock Company Zelenodolsk Plant Named After A.M. Gorky;

• Machine Building Group Limited Liability Company;

• Military Industrial Company Limited Liability Company;

• Open Joint Stock Company Degtyaryov Plant;

• Promtekhnologiya Limited Liability Company;

• Public Joint Stock Company Kurganmashzavod;

• Public Joint Stock Company Motovilikha Plants;

• Public Joint Stock Company Proletarsky Plant;

• Public Joint Stock Company Rostvertol;

• Public Joint Stock Company Scientific Production Association Strela;

• Scientific Production Association Izhevsk Unmanned Systems Limited Liability Company;

• Scientific Production Enterprise Prima Limited Liability Company;

• United Machine Building Group Limited Liability Company;

• Volgograd Machine Building Company Limited Liability Company; and

• VXI-Systems Limited Liability Company

Savings Clause

For the changes being made in this final rule, shipments of items removed from eligibility for a License Exception or export, reexport, or transfer (in-country) without a license (NLR) as a result of this regulatory action that were en route aboard a carrier to a port of export, reexport, or transfer (in-country), on May 19, 2023, pursuant to actual orders for export, reexport, or transfer (in-country) to or within a foreign destination, may proceed to that destination under the previous eligibility for a License Exception or export, reexport, or transfer (in-country) without a license (NLR) before June 20, 2023. Any such items not actually exported, reexported, or transferred (in-country) before midnight, on June 20, 2023, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.4 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Supplement No. 4 to part 744 is amended:

a. Under ARMENIA, by adding in alphabetical order, an entity for “Medisar, LLC;”

b. By adding in alphabetical order a heading for Kyrgyzstan and one Kyrgyz entity, “Tro.Ya, LLC;” and

c. Under RUSSIA by adding in alphabetical order, entries for “Closed Joint Stock Company Special Design Bureau;” “Federal State Enterprise Kazan State Gunpowder Plant;” “Federal State Unitary Enterprise Central Scientific Research Institute of Chemistry and Mechanics;” “Federal State Unitary Enterprise Rostov-On-Don Research Institute of Radio Communications;” “Informtest Firm Limited Liability Company;” “Joint Stock Company 150 Aircraft Repair Plant;” “Joint Stock Company 810 Aircraft Repair Plant;” “Joint Stock Company Arzamas Instrument-Making Plant named after P.I. Plandin;” “Joint Stock Company Bryansk Automobile Plant;” “Joint Stock Company Central Research Institute Burevestnik;” “Joint Stock Company Central Research Institute of Automation and Hydraulics;” “Joint Stock Company Concern Avrora Scientific and Production Association;” “Joint Stock Company Concern Central Institute for Scientific Research Elektropribor;” “Joint Stock Company Concern Morinformsystem Agat;” “Joint Stock Company Concern Okeanpribor;” “Joint Stock Company Dux;” “Joint Stock Company Eastern Shipyard;” “Joint Stock Company ENICS;” “Joint Stock Company Information Satellite Systems Named After Academician M.F. Reshetnev;” “Joint Stock Company Izhevsk Electromechanical Plant Kupol;” “Joint Stock Company Kazan Optical-Mechanical Plant;” “Joint Stock Company Khabarovsk Shipbuilding Yard;” “Joint Stock Company Machine Building Company Vityaz;” “Joint Stock Company Management Company Radiostandard;” “Joint Stock Company Marine Instrument Engineering Corporation;” “Joint Stock Company Nevskoe Design Bureau;” “Joint Stock Company NII Gidrosvyazi Shtil;” “Joint Stock Company Nizhny Novgorod Plant of the 70th Anniversary of Victory;” “Joint Stock Company Northern Production Association Arktika;” “Joint Stock Company Perm Machine Building Plant;” “Joint Stock Company Precision Engineering Design Bureau named after A.E. Nudelman;” “Joint Stock Company Production Complex Akhtuba;” “Joint Stock Company Project Design Bureau RIO;” “Joint Stock Company Ratep;” “Joint Stock Company Scientific Production Association Impulse;” “Joint Stock Company Scientific Production Association Orion;” “Joint Stock Company Scientific Production Association Russian Basic Information Technologies;” “Joint Stock Company Scientific Production Association Volna Plant;” “Joint Stock Company Scientific Production Center of Automatics and Instrument Building Named After Academician N.A. Pilyugin;” “Joint Stock Company Scientific Production Concern Tekhmash;” “Joint Stock Company Scientific Research Engineering Institute;” “Joint Stock Company Scientific Research Institute of Computing Complexes Named After M.A. Kartsev;” “Joint Stock Company Scientific Technical Institute Radiosvyaz;” “Joint Stock Company Taganrog Plant Priboy;” “Joint Stock Company Tula Cartridge Works;” “Joint Stock Company Tula Machine-Building Plant;” “Joint Stock Company Ulan-Ude Aviation Plant;” “Joint Stock Company Ulyanovsk Cartridge Works;” “Joint Stock Company Ulyanovsk Mechanical Plant;” “Joint Stock Company Ural Automotive Plant;” “Joint Stock Company Ural Works of Civil Aviation;” “Joint Stock Company Vodtranspribor;” “Joint Stock Company Zavod Elecon;” “Joint Stock Company Zavolzhskiy Plant of Caterpillar Tractors;” “Joint Stock Company Zelenodolsk Plant Named After A.M. Gorky;” “Machine Building Group Limited Liability Company;” “Military Industrial Company Limited Liability Company;” “Open Joint Stock Company Degtyaryov Plant;” “Promtekhnologiya Limited Liability Company;” “Public Joint Stock Company Kurganmashzavod;” “Public Joint Stock Company Motovilikha Plants;” “Public Joint Stock Company Proletarsky Plant;” “Public Joint Stock Company Rostvertol;” “Public Joint Stock Company Scientific Production Association Strela;” “Scientific Production Association Izhevsk Unmanned Systems Limited Liability Company;” “Scientific Production Enterprise Prima Limited Liability Company;” “United Machine Building Group Limited Liability Company;” “Volgograd Machine Building Company Limited Liability Company;” and “VXI-Systems Limited Liability Company.”

The additions read as follows:

Supplement No. 4 to Part 744—Entity List

* * * * *

Country | Entity | License requirement | License review policy | Federal Register citation
* * * * * * *
ARMENIA | * * * * *
| Medisar, LLC, a.k.a., the following one alias: —“Medisar” LLC. 4/9 Getari St., 0023 Yerevan, Armenia. | For all items subject to the EAR. (See § 744.11 of the EAR) | Presumption of denial | 88 FR [INSERT FR PAGE NUMBER AND 5/22/2023].
| * * * * *
* * * * * * *
KYRGYZSTAN | Tro.Ya, LLC, a.k.a., the following one alias: —Tro-Ya. Lower Lugovaya St. 217 Tokmok, Chui Region, 724201, Kyrgyzstan; and Jumabeka St. 105/1 Bishkek 720011, Kyrgyzstan. | For all items subject to the EAR. (See § 744.11 of the EAR) | Presumption of denial | 88 FR [INSERT FR PAGE NUMBER AND 5/22/2023].
* * * * * * *
RUSSIA | Closed Joint Stock Company Special Design Bureau, a.k.a., the following three aliases: —CJSC Special Design Bureau; —ZAO SKB; and —ZAO Spetsialnoe Konstruktorskoe Byuro. 35 1905 Goda Street, Building 2404, Office 318, Perm, Perm Territory, 614014, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * *
| Federal State Enterprise Kazan State Gunpowder Plant, a.k.a., the following six aliases: —Federalnoe Kazennoe Predpriyatie Kazanski Gosudarstvenny Kazenny Porokhovoi Zavod; —FKP Kazanski Gosudarstvenny Kazenny Porokhovoi Zavod; —FKP KGKPZ; —Kazan Gunpowder Plant; —FSE Kazan State Powder Plant; and —Kazan Powder Plant. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 14 Pervogo Maya Street, Kazan, Republic of Tatarstan, 420032, Russia.
* * * * * * *
| Federal State Unitary Enterprise Central Scientific Research Institute of Chemistry and Mechanics, a.k.a., the following ten aliases: —CNIIHM; —Federalnoe Gosudarstvennoe Unitarnoe Predpriyatie Tsentralny Nauchno-Issledovatelski Institut Khimii I Mekhaniki; —FGUP CNIIXM; —FGUP TSNIIKHM; —FSUE CNIIHM; —FSUE TSNIIKHM; —GNTS RF FGUP TSNIIKHM; | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| —State Research Center of the Russian Federation FGUP Central Scientific Research Institute of Chemistry and Mechanics;
| —Tsentralny Naucho-Issledovatelsky Institut Khimii I Mekhaniki, FGUP; and
| —TSNIIKHM.
| 16A, Nagatinskaya Street, Moscow, 115487, Russia.
* * * * * * *
| Federal State Unitary Enterprise Rostov-On-Don Research Institute of Radio Communications, a.k.a., the following five aliases: —FGUP RNIIRS; —FGUP Rostovski-Na-Donu Nauchno-Issledovatelski Institut Radiosvyazi; —FSUE Rostov-On-Don Scientific Research Institute of Radio Communications; —Nansena FGUP RNIIRS; and —RNIIRS. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 130 Nansena Street, Rostov-on-Don, Rostov Oblast, 344038, Russia.
* * * * * * *
| Informtest Firm Limited Liability Company, a.k.a., the following seven aliases: —OOO Firma Informtest; —Firm Informtest; —Firma Informtest; —Holding Informtest; —Informtest Firm LLC; —InformTest Holdings; and —InformTest Ltd. 4 Savelkinsky Way, Zelenograd, Moscow, 124482, Russia; and 4 Savelkinsky Passage, 6th Floor, Premises XIV, Room 8, Zelenograd, Moscow, 124482, Russia; and Passage 4806, Building 6, Room 70, Zelenograd, Moscow, 124460, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company 150 Aircraft Repair Plant, a.k.a., the following four aliases: —150 ARZ; —150 ARP; —AO 150 Aviatsionny Remontny Zavod; and —AO 150 ARZ. 4 Garnizonnaya Street, Lyublino, Svetly, Kaliningrad Oblast, 238347, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company 810 Aircraft Repair Plant, a.k.a., the following four aliases: —810 ARZ; —810 ARP; —AO 810 Aviatsionny Remontny Zavod; and —JSC 810 ARZ. 1 Vertoletnaya Street, Chita, Transbaikal Territory, 672003, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Arzamas Instrument-Making Plant named after P.I. Plandin, a.k.a., the following six aliases: —AO Arzamassky Priborostroitelny Zavod Imeni Plandina; —AO APZ; —Arzamas Instrument-Building Plant; —JSC Arzamas Instrument Plant; —JSC Arzamassky Priborostroitelny Zavod Imeni Plandina; and —JSC Arzamassky Priborostroitelny Factory Named After P.I. Plandin. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 8A 50 Let VLKSM Street, Nizhny Novgorod Oblast, 607220, Russia.
* * * * * * *
| Joint Stock Company Bryansk Automobile Plant, a.k.a., the following four aliases: —AO BAZ; —AO Bryanski Avtomobilny Zavod; —Bryansk Automobile Factory; and —JSC Bryansk Automobile Plant. 1 Staleliteynaya Street, Bryansk, Bryansk Oblast, 241035, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Central Research Institute Burevestnik, a.k.a., the following five aliases: —AO Tsentralny Nauchno-Issledovatelski Institut Burevestnik; —AO TSNII Burevestnik; —Burevestnik; —Central Scientific Research Institute Burevestnik; and —JSC CRI Burevestnik. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 1a Sormovskoe Highway, Nizhny Novgorod, Nizhny Novgorod Oblast, 603950, Russia.
| Joint Stock Company Central Research Institute of Automation and Hydraulics, a.k.a., the following seven aliases: —AO TSNIIAG; —AO Tsentralny Nauchno-Issledovatelski Institut Avtomatiki I Gidravliki; —Central Scientific Research Institute of Automation and Hydraulics; —Federal Research and Production Center Central Research Institute of Automation and Hydraulics; —CNIIAG; —JSC Central Scientific Research Institute of Automation and Hydraulics; and —TSNIIAG. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 5 Sovetskoy Armii Street, Moscow, 127018, Russia.
* * * * * * *
| Joint Stock Company Concern Avrora Scientific and Production Association, a.k.a., the following eight aliases: —AO Kontsern Nauchno-Proizvodstvennoe Obedinenie Avrora; —AO Kontsern NPO Avrora; —Avrora Systems; —Avrora JSC; —Concern Avrora Scientific Production Association; —Concern Research and Production Association Avrora; —NPO Avrora; and —OJSC Concern NPO Avrora. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 10 Nikolskaya Street, Office 406, Moscow, Russia; and 15 Karbysheva Street, Saint Petersburg, 194021, Russia.
* * * * * * *
| Joint Stock Company Concern Central Institute for Scientific Research Elektropribor, a.k.a., the following seven aliases: —AO Kontsern Tsentralny Nauchno-Issledovatelski Institute Elektropribor; —AO Kontsern TsNII Elektropribor; —CNII Elektropribor; —Concern CSRI Elektropribor JSC; —Elektropribor SBP; —JSC Central Research Institute Concern Elektropribor; and —SOPSERP CSRI Elektropribor JSC. 30 Malaya Posadskaya Street, Saint Petersburg, 197046, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Concern Morinformsystem Agat, a.k.a., the following six aliases: —AO Kontsern Morinformsistema-Agat; —AO Kontsern Morinsis-Agat; —Concern Agat; —Concern Morinformsystem Agat JSC; —Kontsern Agat; and —JSC Kontsern Morinformsistema Agat. 29 Entuziastov Highway, Moscow, 105275, Russia; and 174 Grabtsevskoe Highway, Kaluga, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Concern Okeanpribor, a.k.a., the following six aliases: —AO Kontsern Okeanpribor; —JSC Concern Okeanpribor; —Kontsern Okeanpribor, PAO; —JSC Concern Ocean Instruments; —Concern Oceanpribor OAO; and —Oceanpribor. 46 Chkalovski Avenue, Saint Petersburg, 197376, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Dux, a.k.a., the following two aliases: —AO DUKS; and —Dux, JSC. 8 Pravdy Street, Moscow, 125040, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Eastern Shipyard, a.k.a., the following five aliases: —AO Vostochnaya Verf; —AO V-VERF; —JSC Eastern Wharf; —JSC Vladivostok Shipyard; and —Vladivostok Shipbuilding Plant. 1 Geroyev Tikhookeantsev Street, Vladivostok, Primorsky Territory, 690017, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company ENICS, a.k.a., the following seven aliases: —AO ENIKS; —ENICS; —ENICS Research Centre; —JSC ENICS; —Production Cooperative Research Center ENIKS; —Proizvodstvenny Kooperativ Nauchno-Issledovatelski Tsentr Eniks; and —Scientific Research Center ENIKS. 120 Korolenko Street, Kazan, Republic of Tatarstan, 420094, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Information Satellite Systems Named After Academician M.F. Reshetnev, a.k.a., the following eight aliases: —AO Informatsionnye Sputnikovye Systemy imeni Akademika M.F. Reshetnyova; —AO ISS; —AO ISS im. M.F. Reshetnyova; —JSC Academician M.F. Reshetnev Information Satellite Systems; —JSC ISS Reshetnev; —ISS Reshetnev; —ISS-Reshetnev Company; and —Reshetnev Company. 52 Lenina Street, Zheleznogorsk, Krasnoyarsk Territory, 662972, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Izhevsk Electromechanical Plant Kupol, a.k.a., the following four aliases: —AO IEMZ Kupol; —AO Izhevskiy Elektromekhanicheskiy Zavod Kupol; —IEMZ Kupol; and —JSC Izhevsk Electromechanical Plant Kupol. 3 Pesochnaya Street, Izhevsk, Udmurt Republic, 426033, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Kazan Optical-Mechanical Plant, a.k.a., the following five aliases: —AO Kazanski Optiko-Mekhanicheski Zavod; —AO KOMZ; —JSC Kazan Optical-Mechanical Factory; —KOMZ; and —KOMZ RT. 37 Lipatova Street, Kazan, Republic of Tatarstan, 420075, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Khabarovsk Shipbuilding Yard, a.k.a., the following ten aliases: —AO Khabarovsky Sudostroitelny Zavod; —AO KHSZ; —AO HSZ; —JSC Khabarovsk Shipbuilding Plant; —JSC Khabarovskiy Shipyard; —JSC Khabarovsky Sudostroitelny Zavod; —JSC Khabarovsk Shipyard; —JSC KHSZ; —Khabarovsky Shipbuilding Plant; and —Khabarovsk Shipbuilding Plant. 1 Suvorova Street, Khabarovsk, Khabarovsk Territory, 680003, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Machine Building Company Vityaz, a.k.a., the following seven aliases: —AO Mashinostroitelnaya Kompaniya Vityaz; —AO MK Vityaz; —JSC Machine Building Company Vityaz; —MK Vityaz; —MBC Vityaz; —UVZ Vityaz; and —Vityaz. 2 Industrialnoye Highway, Ishimbay, Republic of Bashkortostan, 453203, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Management Company Radiostandard, a.k.a., the following four aliases: —AO Upravlyayushchaya Kompaniya Radiostandart; —AO UK Radiostandart; —JSC MC Radiostandart; and —Radio Standard. Kirovsky Plant, 29-N Marshal Govorov Street, Saint Petersburg, 198097, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Marine Instrument Engineering Corporation, a.k.a., the following four aliases: —AO Korporatsiya Morskogo Priobostroeniya; —AO KMP; —JSC KMP; and —JSC Marine Instrumentation Corporation. 30 Malaya Posadskaya Street, Saint Petersburg, 197046, Russia; and 4 Shvernika Street, Building 4, Moscow, 117292, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Nevskoe Design Bureau, a.k.a, the following ten aliases: —AO Nevskoe PKB; —AO Nevskoye Proyektno-Konstruktorskoye Byuro; —Joint Public Stock Company Nevskoe Design Bureau; —JSC Nevskoe PKB; —JSC Nevskoye Project and Design Bureau; —Nevskoe Design and Construction Office; —Nevskoe Design Bureau; —Nevskoe Design Bureau JPSC; —NPKB; and —Neva Design Bureau. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 3 Galerny Way, Saint Petersburg, 199106, Russia.
| Joint Stock Company NII Gidrosvyazi Shtil, a.k.a, the following two aliases: —JSC NII Shtil; and —Nauchno-Issledovatelski Institut Gidrosvyazi “Shtil”. 17, A Angarskaya Street, Volgograd, Volgogradskaya Oblast, 400081. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Nizhny Novgorod Plant of the 70th Anniversary of Victory, a.k.a., the following four aliases: —AO Nizhegorodskiy Zavod 70-Letiya Pobedy; —AO NZ 70-Letiya Pobedy; —NZSLP; and —Zavod 70-Letiya Pobedy. 21 Sormovskoe Highway, Nizhny Novgorod, Nizhny Novgorod Oblast, 603052, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Northern Production Association Arktika, a.k.a., the following six aliases: —AO Severnoye Proizvodstvennoye Obedineniye Arktika; —AO SPO Arktika; —JSC Northern Production Association Arktika; —JSC SPO Arktika; —Production Association Arktika; and —SPO Arktika. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 34 Arkhangelskoye Highway, Severodvinsk, Arkhangelsk Oblast, 164500, Russia.
* * * * * * *
| Joint Stock Company Perm Machine Building Plant, a.k.a., the following six aliases: —AO Permskiy Zavod Mashinostroitel; —AO PZ Mash; —JSC Perm Plant Mashinostroitel; —JSC Permskiy Zavod Mashinostroitel; —JSC PP Mash; and —Mashinostroitel Perm Factory JSC. 57 Novozvyaginskaya Street, Perm, Perm Territory, 614014, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Precision Engineering Design Bureau named after A.E. Nudelman, a.k.a., the following six aliases: —AO Konstruktorskoe Byuro Tochnogo Mashinostroeniya imeni A.E. Nudelmana; —AO KB Tochmash im. A.E. Nudelmana; —JSC Precision Machine Building Design Bureau Nudelman; —KB Tochmash; —Nudelman Precision Engineering Design Bureau; and —Tochmash. 8 Vvedenskogo Street, Moscow, 117342, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Production Complex Akhtuba, a.k.a., the following two aliases: —JSC PK Akhtuba; and —OAO PK Akhtuba. 17 Angarskaya Street, Volgograd, Volgogradskaya Oblast, 400081. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Project Design Bureau RIO, a.k.a., the following four aliases: —AO PKB RIO; —JSC PKB RIO; —PKB RIO; and —RIO Design Bureau. 19 Uralskaya Street, Building 9, Letter Zh, Saint Petersburg, 199155, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Ratep, a.k.a., the following four aliases: —AO RATEP; —JSC RATEP; —OAO RATEP; and —RATEP. 11 Dzerzhinskogo Street, Serpukhov, Moscow Oblast, 142205, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Scientific Production Association Impulse, a.k.a., the following four aliases: —AO Nauchno-Proizvodstvennoe Obedinenie Impuls; —AO NPO Impuls; —JSC SPA Impulse; and —NPO Impuls. 2 Kirishskaya Street, Letter A, Saint Petersburg, 195220, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Scientific Production Association Orion, a.k.a., the following five aliases: —AO Nauchno- Proizvodstvennoe Obedinenie Orion; —JSC SPA Orion; —NPO Orion; —Orion Research and Production Association; and —SPA Orion. 9 Kosinskaya Street, Moscow, 111538, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Scientific Production Association Russian Basic Information Technologies, a.k.a., the following six aliases: —AO Nauchno—Proizvodstvennoye Obedinenie Russkie Bazoviye Inormatsionniye Tekhnologii; —AO NPO Rusbitekh; —JSC Research Production Association RusBITech; —RPA RusBITech; —RusBITech; and —RusBITekh. 26 Varshavskoye Highway, Building 11, Moscow, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Scientific Production Association Volna Plant, a.k.a., the following seven aliases: —AO Nauchno—Proizvodstvennoe Obedinenie Zavod Volna; —AO NPO Zavod Volna; —JSC SPA Volna Plant; —NPO Zavod Volna; —NPO Volna Plant; —Research and Production Association Volna Plant; and —Volna SPB. Kirovsky Plant, 29-N Marshal Govorov Street, St. Petersburg, 198095, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Scientific Production Center of Automatics and Instrument Building Named After Academician N.A. Pilyugin, a.k.a., the following five aliases: —AO Nauchno-Proizvodstvenniy Tsentr Avtomatiki I Priborostroeniya imeni Akademika N.A. Pilyugina; —AO NPTSAP; —JSC NPTSAP; —NPCAP; and —NPCAP FGUP. 1 Vvedenskogo Street, Moscow, 117342, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Scientific Production Concern Tekhmash, a.k.a., the following ten aliases: —AO Nauchno-Proizvodstvenny Kontsern Tekhmash; —AO Nauchno-Proizvodstvenny Kontsern Tekhnologii Mashinotroeniya; —JSC Scientific Industrial Concern Manufacturing Engineering; —JSC SPC Techmash; —JSC Techmash; —NPK Tekhmash; —NPK Tekhmash OAO; —OJSC Machine Engineering Technologies; —Scientific Industrial Concern Manufacturing Engineering OJSC; and —SPC Techmash. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 58 Leningradskoe Highway, Building 4, Moscow, 125212, Russia; and 35 Bolshaya Tatarskaya Street, Building 5, Moscow, 115184, Russia.
* * * * * * *
| Joint Stock Company Scientific Research Engineering Institute, a.k.a., the following three aliases: —AO Nauchno—Issledovatelskiy Inzhenerniy Institut; —AO NIII; and —JSC SREI. 6 Entuziastov Highway, Zapadnaya Promzona, Balashikha, Moscow Oblast, 143912, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Scientific Research Institute of Computing Complexes Named After M.A. Kartsev, a.k.a., the following six aliases: —AO Nauchno—Issledelvatelsky Institut Vychislitelnykh Kompleksov Imeni M.A. Kartseva; —AO NIIVK im. M.A. Kartsev; —JSC Institute for Scientific Research Vychislitelnykh Kompleksov Named After M.A. Kartseva; —JSC NII Vychislitelnykh Kompleksov IM. M.A. Kartseva; —JSC NIIVK IM. M.A. Kartseva; and —NIIVK Named After M.A. Kartsev. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 108 Profsoyuznaya Street, Moscow, 117437, Russia.
* * * * * *
| Joint Stock Company Scientific Technical Institute Radiosvyaz, a.k.a., the following five aliases: —AO NTI Radiosvyaz; —JSC Scientific Technical Institute Radiosvyaz; —NTI Radio; —NTI Radiosvyaz; and —Scientific Technical Institute Radiosviaz. Kirovsky Plant, 29-N Marshal Govorov Street, St. Petersburg, 198095, Russia, and Kirovsky Plant, 29-N Marshal Govorov Street, St. Petersburg, 198097, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Taganrog Plant Priboy, 13, Bolshaya Bulvarnaya Street, Taganrog, Rostovskaya Oblast, 347913. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Tula Cartridge Works a.k.a., the following four aliases: —AO TPZ; —AO Tulski Patronny Zavod; —Tulammo; and —Tula Cartridge Plant. 47B Marata Street, Tula, Tula Oblast, 300004, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Tula Machine-Building Plant, a.k.a., the following nine aliases: —AO Tulskiy Mashinostroitelniy Zavod; —AO Aktsionernaya Kompaniya Tulamashzavod; —OAO AK Tulamashzavod; —JSC Production Association Tulamashzavod; —PO Tulamashzavod; —Proizvodstvennoe Obedinenie Tulamashzavod; —Tulmash; —Tulamashzavod; and —Tulamashzavod Production Association. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 2 Mosina Street, Tula, Tula Oblast, 300002, Russia.
| Joint Stock Company Ulan-Ude Aviation Plant, a.k.a., the following six aliases: —AO Ulan-Udenski Aviatsionny Zavod; —AO UUAZ; —Ulan-Ude Aircraft Aviation Plant; —Ulan-Ude Aviation Factory; —JSC UUAP; and —UUAZ. 1 Khorinskaya Street, Ulan-Ude, Republic of Buryatia, 690009, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Ulyanovsk Cartridge Works, a.k.a., the following six aliases: —AO Ulyanovski Patrionny Zavod; —AO UPZ; —JSC UCW; —The Ulyanovsk Cartridge Works; —ULN Ammo; and —Ulyanovsk Cartridge Plant. 1 Shofyorov Street, Ulyanovsk, Ulyanovsk Oblast, 432007, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Ulyanovsk Mechanical Plant, a.k.a., the following four aliases: —AO Ulyanovsk Mekhanicheskiy Zavod; —AO UMZ; —JSC UMP; and —UMP. 94 Moskovskoye Highway, Ulyanovsk, Ulyanovsk Oblast, 432008, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Ural Automotive Plant, a.k.a., the following five aliases: —AO Avtomobilniy Zavod Ural; —AO AZ Ural; —Automobile Plant Ural JSC; —JSC UAP; and —Ural AZ. 1 Avtozavodtsev Avenue, Miass, Chelyabinsk Oblast, 456304, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Ural Works of Civil Aviation, a.k.a., the following five aliases: —AO Uralskiy Zavod Grazhdanskoi Aviatsii; —AO UZGA; —Ural Civil Aviation Plant; —JSC Ural Works of Civil Aviation; and —UWCA. 2G Bakhchivandzhi Street, Yekaterinburg, Sverdlovsk Oblast, 620025, Russia; and 262M Belinskogo Street, Yekaterinburg, Sverdlovsk Oblast, 620089, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Vodtranspribor, 64 Serdobolskaya Street, Saint Petersburg, 197342. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Joint Stock Company Zavod Elecon, a.k.a., the following five aliases: —AO Zavod Elekon; —Elecon Plant; —Elecon; —JSC Zavod Elecon; and —OAO Zavod Elecon. 58 Korolenko Street, Kazan, Republic of Tatarstan, 420094, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Joint Stock Company Zavolzhskiy Plant of Caterpillar Tractors, a.k.a., the following seven aliases: —AO Zavolzhskiy Zavod Gusenichnikh Tyagachey; —AO ZZGT; —JSC ZCVP; —JSC Zavolzhsky Plant of Caterpillar Tractors; —Zavolzhsk Plant of Caterpillar Tractors; —Zavolzhsky Crawler Vehicle Plant; and —ZZGT. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 1 Zheleznodorozhnaya Street, Zavolzhe, Nizhny Novgorod Oblast, 606522, Russia.
* * * * * * *
| Joint Stock Company Zelenodolsk Plant Named After A.M. Gorky, a.k.a., the following six aliases: —AO Zelenodolskiy Zavod Imeni A.M. Gorkogo; —JSC Zelenodolsk Plant Named After Gorky; —OAO Zelenodolskiy Zavod Imeni A.M. Gorky; —Zelenodolsk Factory; —Zelenodolsk Plant Named After A.M. Gorky, JSC; and —Zelenodolsk Shipyard. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 5 Zavodskaya Street, Zelenodolsk, Republic of Tatarstan, 422540, Russia.
* * * * * * *
| Machine Building Group Limited Liability Company, a.k.a., the following four aliases: —Machine Building Group; —OOO Mashinostroitelnaya Gruppa; —OOO MG; and —MG LLC. 15 Rochdelskaya Street, Building 8, Floor 2, Premises II, Room 45, Moscow, 123022, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Military Industrial Company Limited Liability Company, a.k.a., the following three aliases: —OOO Voenno-Promyshlennaya Kompaniya; —OOO VPK; and —VPK LLC. 15 Rochdelskaya Street, Building 8, Floor 3, Unit I, Rooms 10-14, Moscow, 123376, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Open Joint Stock Company Degtyaryov Plant, a.k.a., the following five aliases: —OAO Zavod imeni V.A. Degtyareva; —OAO ZiD; —Degtyaryov Factory; —OJSC ZiD; and —V.A. Degtyarev Plant. 4 Truda Street, Kovrov, Vladimir Oblast, 601900, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Promtekhnologiya Limited Liability Company, a.k.a., the following four aliases: —OOO Promtekhnologiya; —ORSIS; —Orsis Shop; and —Promtekhnologiya LLC. 29 Krzhizhanovskogo Street, Building 2, Moscow, 117218, Russia; and 14 Podyomnaya St, Housing 8, Moscow, 109052, Russia; and 19 Smirnovskaya St, Moscow, Russia; and Ul. Krzhizhanovskogo, D. 29, K.2, Antresol 1, Moscow, 117218, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Public Joint Stock Company Kurganmashzavod, a.k.a., the following five aliases: —Kurganmashzavod; —OAO Kurganmashzavod; —PJSC Kurgan Machine Building Factory; —PJSC Kurgansky Mashinostroitelny Zavod; and —PJSC Kurgansky Mashinostroitelny Factory. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 17 Mashinostroitely Avenue, Letter 1J, Kurgan, Kurgan Oblast, 640021, Russia.
* * * * * * *
| Public Joint Stock Company Motovilikha Plants, a.k.a., the following five aliases: —Motovilikha Factories; —Motovilicha Plants; —MZ Perm; —PAO Motovilikhinskie Zavody; and —PAO Spetsialnogo Mashinostoeniya I Metallurgii Motovilikhinskie Zavody. 35 1905 Goda Street, Perm, Perm Territory, 614014, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Public Joint Stock Company Proletarsky Plant, a.k.a., the following five aliases: —PAO Proletarsky Zavod; —PJSC Proletarsky Factory; —PJSC Proletarsky Zavod; —Proletarskiy Plant; and —Proletarsky Zavod. 3 Dudko Street, Saint Petersburg, 192029, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Public Joint Stock Company Rostvertol, a.k.a., the following six aliases: —PAO Rostvertol; —PAO Rostvertol imeni B.N. Slyusarya; —PJSC Rostvertol; —Rosvertol; —Rostovskiy Vertoletnyi Proizvostvennyi Kompleks; and —Rostov Helicopter Production Complex. 5 Novatorov Street, Rostov-on-Don, Rostov Oblast, 344038, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| Public Joint Stock Company Scientific Production Association Strela, a.k.a., the following six aliases: —NPO Strela; —PAO Nauchno-Proizvodstvennoe Obedinenie Strela; —PAO NPO Strela; —PJSC Research and Production Association Strela; —PJSC SPA Strela; and —SPA Strela. 6 Maxim Gorky Street, Tula, Tula Oblast, 300002, Russia; and 2 Arsenalnaya Street, Tula, Tula Oblast, 300002, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Scientific Production Association Izhevsk Unmanned Systems Limited Liability Company, a.k.a., the following seven aliases: —Izmash-Bespilotnye Sistemy, OOO; —Izhmash-Unmanned Systems Company; —LLC Research and Production Association Izhbs; —OOO Nauchno-Proizvodstvennoe Obedinenie Izhevskie Bespilotnye Systemy; —OOO NPO IZHBS; —NPO IZHBS; and —Research and Production Association Izhevsk Unmanned Systems LLC. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 2 Ordzhonikidze Street, Izhevsk, Udmurt Republic, 426063, Russia; and 2A Trofimova Street, Room 221, Danilovski Municipal Okrug, Moscow, 115432, Russia.
* * * * * * *
| Scientific Production Enterprise Prima Limited Liability Company, a.k.a., the following seven aliases: —OOO Nauchno-Proizvodstvennoe Predpriyatie Prima; —NPP Prima; —NPP Prima OOO; —Prima Research and Production Enterprise; —Prima Systems; —SPE Prima; and —SPE Prima LLC. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
| 63 Svobody Street, Nizhniy Novgorod, Nizhniy Novgorod Oblast, 603003, Russia; and 1Zh Sormovskoe Highway, Nizhniy Novgorod, Nizhniy Novgorod Oblast, 603950, Russia.
* * * * * * *
| United Machine Building Group Limited Liability Company, a.k.a., the following six aliases: —OOO Obedinennaya Mashinostroitelnaya Gruppa; —OOO OMG; —UMG; —UMG LLC; —United Machinery Group LLC; and —United Machine Building Group LLC. 15 Rochdelskaya Street, Building 8, Floor 2, Premises II, Room 45 Moscow, 123022, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| Volgograd Machine Building Company Limited Liability Company, a.k.a., the following four aliases: —OOO VMK VGTZ; —VGTZ; —Volgogradskaya Mashinostroitelnaya Kompaniya; and —LLC Volgograd Machine Building Company VGTZ. 1 Dzerzhinskogo Square, Volgograd, Volgograd Oblast, 400006, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
| VXI-Systems Limited Liability Company, a.k.a., the following five aliases: —InformTest Holdings; —VXI-Systems; —VXI-Systems LLC; —VXI-Systemy; and —VXI-Systemy OOO. 4 Savelkinsky Way, Zelenograd, Moscow, 124482, Russia; and 4 Savelkinsky Way, 6th Floor, Premises XIV, Room 8, Zelenograd, Moscow, 124482, Russia. | For all items subject to the EAR. (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER AND 5/22/2023].
* * * * * * *
* * * * *
³ For this entity, “items subject to the EAR” includes foreign-produced items that are subject to the EAR under § 734.9(g) of the EAR. See §§ 746.8 and 744.21 of the EAR for related license requirements, license review policy, and restrictions on license exceptions.
* * * * *

Thea D. Rozman Kendler,
Assistant Secretary for Export Administration.

[FR Doc. 2023-10684 Filed 5-19-23; 8:45 am]

BILLING CODE 3510-JT-P